COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List products and service to be furnished by nonprofit agencies employing persons who are blind or have other severe disabilities.

DATES: Effective Date: June 29, 2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 3/27/2009 and 4/03/2009, the Committee for Purchase From People Who Are Blind or Severely Disabled published notices (74 FR No. 58, pgs. 13413-13414 and 74 FR No. 63, pg. 15253) of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

NSN: 7510-00-NIB-0897—Rubber Band, Sterling Grade, Size 33 1 lb.

NSN: 7510-01-058-9974—Rubber Band, Sterling Grade, Size 64 1 lb.

NSN: 7510-00-NIB-0898—Rubber Band, Sterling Grade, Size 117, 1 lb.

NSN: 7510-00-NIB-0899—Rubber Band, Sterling Grade, Size 19, 1 lb.

NSN: 7510-00-NIB-0900—Rubber Band, Sterling Grade, Size 32, 1 lb.

NSN: 7510-00-NIB-0901—Rubber Band, Sterling Grade, Size 16, 1 lb.

NSN: 7510-00-NIB-0902—Rubber Band, Sterling Grade, Size 18, 1 lb.

NSN: 7510-00-NIB-0903—Rubber Band, Sterling Grade, Size 54 Asst, 1 lb.

NSN: 7510-00-NIB-0904—Big Band Pack, Red.

NSN: 7530-00-NIB-0881—Folder, File, Reinforced (2-ply) Ltr Size Manila.

NSN: 7530-00-NIB-0883—Folder, File, Reinforced (2-ply) Ltr Size Manila.

Coverage: A-List for the total Government requirement as aggregated by the General Services Administration.

NSN: 7510-00-205-0371—Rubber Band, Sterling Grade, Size 84, 1/4lb.

NSN: 7510-00-205-0842—Rubber Band, Sterling Grade, Size 33, 1/4lb.

NSN: 7510-00-205-1438—Rubber Band, Sterling Grade, Size 19, 1/4lb.

NSN: 7510-00-205-1439—Rubber Band, Sterling Grade, Size 16, 1/4lb.

NSN: 7510-00-243-3434—Rubber Band, Sterling Grade, Size 32, 1/4lb.

NSN: 7510-00-243-3435—Rubber Band, Sterling Grade, Size 64, 1/4lb.

NSN: 7510-00-243-3437—Rubber Band, Sterling Grade, Size 18, 1/4lb.

NSN: 7530-00-NIB-0882—Folder, File, Reinforced (2-ply) Ltr Size Manila.

Coverage: B-List for the broad Government requirement as aggregated by the General Services Administration.

NPA: Central Association for the Blind & Visually Impaired, Utica, NY.

Contracting Activity: Federal Acquisition Service, GSA/FSS OFC SUP CTR—Paper Products, New York, NY.

Service

Service Type/Location: Custodial Services, Allegheny National Forest, 4 Farm Colony Drive, Warren, PA.

NPA: Bollinger Enterprises, North Warren, PA.

Contracting Activity: Dept of Agriculture/Forest Service, Warren, PA.

Barry S. Lineback,
Director, Business Operations.

[FR Doc. E9-12540 Filed 5-28-09; 8:45 am]

BILLING CODE 6353-01-P